DEPARTMENT OF AGRICULTURE

Grain Inspection, Packers and Stockyards Administration

Opportunity for Designation in the Columbus, OH; Dallas, TX; and Decatur, IN Areas; Request for Comments on the Official Agencies Servicing These Areas

AGENCY: Grain Inspection, Packers and Stockyards Administration, USDA.

ACTION: Notice.

SUMMARY: The designations of the official agencies listed below will end on December 31, 2010. We are asking persons or governmental agencies interested in providing official services in the areas presently served by these agencies to submit an application for designation. In addition, we are asking for comments on the quality of services provided by the following designated agencies: Columbus Grain Inspection, Inc. (Columbus); Gulf Country Grain Inspection Service, Inc. (Gulf Country); and Northeast Indiana Grain Inspection, Inc. (Northeast Indiana).

DATES: Applications and comments must be received by July 1, 2010.

ADDRESSES: Submit applications and comments concerning this notice using any of the following methods:

• Applying for Designation on the Internet: Use FGISonline (https://fgis.gipsa.usda.gov/default_home_FGIS.aspx) and then click on the Delegations/Designations and Export Registrations (DDR) link. You will need to obtain an FGISonline customer number and USDA eAuthentication username and password prior to applying.

• Submit Comments Using the Internet: Go to Regulations.gov (http://www.regulations.gov). Instructions for submitting and reading comments are detailed on the site.

• Hand Delivery/Courier Address: Karen W. Guagliardo, Review Branch Chief, Compliance Division, GIPSA, USDA, Room 1647-S, 1400 Independence Avenue, SW., Washington, DC 20250.

• Mail: Karen W. Guagliardo, Review Branch Chief, Compliance Division, GIPSA, USDA, STOP 3604, 1400 Independence Avenue, SW., Washington, DC 20250-3604.

• Fax: Karen W. Guagliardo, 202-690-2755.

• E-mail: Karen.W.Guagliardo@usda.gov.

Read Applications and Comments: All applications and comments will be available for public inspection at the office above during regular business hours (7 CFR 1.27(c)).

FOR FURTHER INFORMATION CONTACT: Karen W. Guagliardo, 202-720-8262 or Karen.W.Guagliardo@usda.gov.

SUPPLEMENTARY INFORMATION: Section 7(f)(1) of the United States Grain Standards Act (USGSA) (7 U.S.C. 71-87k) authorizes GIPSA's Administrator to designate a qualified applicant to provide official services in a specified area after determining that the applicant is better able than any other applicant to provide such official services. Under section 7(g)(1) of the USGSA, designations of official agencies are effective for 3 years unless terminated by the Secretary, but may be renewed according to the criteria and procedures prescribed in section 7(f) of the Act.

Areas Open for Designation

Columbus

Pursuant to Section 7(f)(2) of the Act, the following geographic areas, in the States of Michigan and Ohio are assigned to this official agency:

In Michigan:

Jackson (east of U.S. Route 127 and south and west of State Road 50), Lenawee (east Bounded on the West by State Route 127 at the Michigan-Ohio State line north to State Route 50; Bounded on the north by State Route 50 at State Route 127 east to the Michigan State line; the Michigan state line south to the Michigan-Ohio State line.

In Ohio:

The northern Ohio State line east to the to the Ohio Pennsylvania State line; Bounded on the East by the Ohio-Pennsylvania State line south to the Ohio River; Bounded on the South by the Ohio River south-southwest to the western Scioto County line; and Bounded on the West by the western Scioto County line north to State Route 73; State Route 73 northwest to U.S. Route 22; U.S. Route 22 west to U.S. Route 68; U.S. Route 68 north to Clark County; the northern Clark County line west to State Route 560; State Route 560 north to State Route 296; State Route 296 west to Interstate 75; Interstate 75 north to State Route 47; State Route 47 northeast to U.S. Route 68 (including all of Sidney, Ohio); U.S. Route 68 north to the southern Hancock County line; the southern Hancock County line west to the western Hancock, Wood and Lucus County lines north to the Michigan-Ohio State line; the Michigan-Ohio State line west to State Route 127.

Columbus' assigned geographic area does not include those export port locations within their assigned geographic areas, which are serviced by GIPSA.

Gulf Country

Pursuant to Section 7(f)(2) of the Act, the following geographic areas, in the State of Texas are assigned to this official agency:

Bounded on the North by the northern Young, Jack, Montague, Cooke, Grayson, Fannin, Lamar, Red River, Morris, and Marion County lines east to the Texas State line; Bounded on the East by the eastern Texas State line south to the southern Shelby County line; Bounded on the South by the southern Shelby, Rusk, Smith, Henderson, Navarro, Hill, Bosque, Hamilton, and Mills County lines west to the western Mills county line; and Bounded on the West by the western Mills, Comanche, Eastland, Stephens, and Young County lines north to the northern Young County line.

Northeast Indiana

Pursuant to Section 7(f)(2) of the Act, the following geographic areas, in the State of Indiana are assigned to this official agency:

Bounded on the North by the northern Lagrange and Steuben County lines; Bounded on the East by the eastern Steuben, De Kalb, Allen, and Adams County lines; Bounded on the South by the southern Adams and Wells County lines; and Bounded on the West by the western Wells County line; the southern Huntington and Wabash County lines; the western Wabash County line north to State Route 114; State Route 114 northwest to State Route 19; State Route 19 north to Kosciusko County; the western and northern Kosciusko County lines; the western Noble and Lagrange County lines.

The following grain elevator, located outside of the above contiguous geographic area, is part of this geographic area assignment: E.M.P. Coop, Payne, Paulding County, Ohio (located inside Michigan Grain Inspection Services, Inc.'s, area).

Opportunity for Designation

Interested persons or governmental agencies may apply for designation to provide official services in the geographic areas specified above under the provisions of section 7(f) of the USGSA and 7 CFR 800.196(d). Designation in the specified geographic areas is for the period beginning January 1, 2011, and ending December 31, 2013. To apply for designation or for more information, contact Karen W. Guagliardo at the address listed above or visit GIPSA's Web site at http://www.gipsa.usda.gov.

Request for Comments

We are publishing this notice to provide interested persons the opportunity to comment on the quality of services provided by the Columbus, Gulf Country, and Northeast Indiana official agencies. In the designation process, we are particularly interested in receiving comments citing reasons and pertinent data supporting or objecting to the designation of the applicants. Submit all comments to Karen W. Guagliardo at the above address or at http://www.regulations.gov.

We consider applications, comments, and other available information when determining which applicant will be designated.

Authority: 7 U.S.C. 71-87k.

Marianne Plaus,
Acting Administrator, Grain Inspection, Packers and Stockyards Administration.

[FR Doc. 2010-12381 Filed 5-24-10; 8:45 am]

BILLING CODE 3410-KD-P